DEPARTMENT OF HEALTH AND HUMAN SERVICES

Centers for Disease Control and Prevention

[Program Announcement 01147]

Cooperative Agreement With the World Health Organization/Regional Office for Africa (WHO/AFRO); Notice of the Availability of Funds

A. Purpose

The Centers for Disease Control and Prevention (CDC), National Center for HIV/STD/TB Prevention (NCHSTP), announces the availability of funds for fiscal year (FY) 2001 for a sole source cooperative agreement with the World Health Organization/Regional Office for Africa (WHO/AFRO).

The purpose of this agreement is to help support implementation of the Leadership and Investment in Fighting an Epidemic (LIFE) Initiative, a United States Government program that seeks to reduce the impact of HIV/AIDS in specific countries within sub-Saharan Africa, Asia and the Americas. CDC, through the LIFE Initiative, focuses on strengthening the capacity of national AIDS control programs in the areas of (1) HIV primary prevention, (2) HIV care, support, and treatment, and (3) capacity and infrastructure development, especially for surveillance. Countries targeted represent those with the most severe epidemic and the highest number of new infections. They also represent countries where the potential for impact is greatest and where U.S. government agencies are already active. An updated list of partner countries for the CDC-LIFE Initiative is available at http://www.cdc.gov/nchstp/od/gap/default.htm.

This agreement supports a framework of interventions, grounded in a series of goals and objectives consistent with those established for the international community by the Joint United Nations Programme on AIDS (UNAIDS) in support of the International Partnership Against AIDS in Africa (IPAA).

According to recent estimates from UNAIDS and WHO, 36.4 million adults and children were living with HIV by the end of 2000. Of the total estimate, approximately 25.3 million (69 percent of the total world-wide) adults and children were living with AIDS in sub-Saharan Africa alone. As a key partner in the U.S. Government's LIFE Initiative, CDC, through its Global AIDS Program (GAP), is working in a collaborative manner with national governments, USAID and other Federal agencies, and other international donor agency partners to develop programs of assistance to address the HIV/AIDS epidemic in LIFE Initiative countries. CDC is establishing partnership and support relationships primarily with national governments in highly affected countries, and with a number of other partner organizations to support country-level action.

B. Eligible Applicants

Assistance will be provided only to the World Health Organization/Regional Office for Africa (WHO/AFRO) in support of LIFE Initiative activities in sub-Saharan Africa. No other applications will be solicited.

WHO's Regional Office for Africa is the most appropriate and qualified agency to conduct a specific set of activities supportive of CDC's LIFE Initiative-related assistance to countries in sub-Saharan Africa because:

1. WHO/AFRO covers the region of the world most heavily impacted by the HIV/AIDS epidemic and is both chartered and uniquely positioned to assist national AIDS control programs and other partners to strengthen national health sector responses to HIV/AIDS.

2. WHO, through its regional office, is a leading partner within the International Partnership Against HIV/AIDS (IPAA) in Africa, an international umbrella effort to increase support and visibility for a multi-lateral emergency response to the AIDS epidemic in Africa. The LIFE Initiative is a key supporter of the IPAA.

3. Through decisions and resolutions of the WHO Regional Committee for Africa, the WHO Executive Board and the World Health Assembly, WHO/AFRO's Regional Programme on AIDS (RPA) has been called upon to accelerate its support to the regional response. The Strategic Plan for Scaling Up WHO/AFRO's Support to Countries outlines RPA's planned approaches to accelerating support to countries. Planned approaches are all within the context of the IPAA and consistent with the overall spirit of the LIFE Initiative.

4. The focus of action for CDC's requested support from WHO/AFRO is in regional policy setting, information sharing and regional-level aggregation and interpretation of health data related to surveillance, prevention and care for HIV/AIDS within the region. In this sense, WHO/AFRO is unique in that it is the sole health sector policy-setting organization that includes all sub-Saharan African countries as member countries within one organization. WHO also maintains a network of country offices and WHO Coordinating Centres to serve as critical links for ensuring country access to available technical resources, information and coordination.

C. Availability of Funds

Approximately $1,000,000 is available in FY 2001 to fund this project. It is anticipated that the award will begin on or about September 30, 2001 and will be made for a 12-month budget period within a project period of up to five years. Annual funding estimates may vary and are subject to change.Continuation awards within the project period will be made on the basis of satisfactory progress and availability of funds.

Use of Funds

General Use

Funds may be used for: (a) Establishing strategies, policies and guidelines for health sector responses to the HIV/AIDS epidemic in Africa in areas such as surveillance, laboratory, care and prevention. (b) Conducting meetings and other relevant activities that contribute to the development, dissemination and evaluation of strategies, policies and guidelines. (c) Aggregating and disseminating information, strategies, policies, guidelines and training materials pertinent to HIV/AIDS and HIV-related conditions, including internet-based and other tools for efficient cataloguing and disseminating such information, and support for increasing national capacities to retrieve such information from such systems. (d) Building capacity within Ministries of Health, National AIDS Councils, and similar key national institutions. (e) Supporting key networks within the region to lead evidence-based, improved health sector practices relevant to HIV/AIDS in Africa (such as international networks within Africa to provide training in HIV quality of care on a national or subregional basis).

General Non-Use

Funds received from this announcement will not be used for capital expenditures such as the purchase of off-road and multi-passenger vehicles, large volume (greater than 50) purchase of computers and data storage systems, space renovations and other significant improvements to physical environments where activities are carried out.

Specific Non-Use

Funds received from this announcement will not be used for the direct treatment of established HIV infection, occupational exposures, and non-occupational exposures and will not be used for the direct purchase of equipment and reagents to conduct hospital-based laboratory monitoring for patient care or confirmatory tests. Funds will not be used for staff positions within CDC or WHO country offices.

Antiretroviral Drugs

Funds received from this announcement will not be used for the purchase of antiretroviral drugs for treatment of established HIV infection (with the exception nevirapine in PMTCT cases and with prior written approval), occupational exposures, and non-occupational exposures and will not be used for the purchase of machines and reagents to conduct the necessary laboratory monitoring for patient care.

Applicants may contract with other organizations under these cooperative agreements, however, applicants must perform a substantial portion of the activities (including program management and operations and delivery of prevention services for which funds are requested.

The costs that are generally allowable in grants to domestic organizations are likewise allowable to foreign institutions and international organizations.

All requests for funds, including the budget contained in the application, shall be stated in U.S. dollars. Once an award is made, the Department of Health and Human Services (DHHS) will not compensate foreign grantees for currency exchange fluctuations through the issuance of supplemental awards.

Needle Exchange

No funds appropriated under this Act shall be used to carry out any program of distributing sterile needles or syringes for the hypodermic injection of any illegal drug.

D. Where To Obtain Additional Information

This and other CDC announcements can be found on the CDC home page Internet address (http://www.cdc.gov). Scroll down the page, then click on “Funding” then “Grants and Cooperative Agreements.”

To receive additional written information and to request an application kit, call 1-888-GRANTS4 (1-888-472-6874). You will be asked to leave your name and address and will be instructed to identify the Announcement number of interest.

If you have questions after reviewing the contents of all the documents, business management technical assistance may be obtained from:

Dorimar Rosado, Grants Management Specialist, Centers for Disease Control and Prevention (CDC), Procurement and Grants Office, Room 3000, 2920 Brandywine Road, Mailstop E-15, Atlanta, GA 30341-4146, Telephone: 770-488-2782, E-mail: dpr7@cdc.gov.

For program technical assistance, contact: Michael St. Louis, Global AIDS Program (GAP), Zimbabwe Country Team, National Center for HIV, STD, and TB Prevention, Centers for Disease Control and Prevention (CDC), 38 Samora Machel Ave., 2nd Floor, Harare, Zimbabwe, Telephone number: 263-11-613-193, Email address: stlouism@zimcdc.co.zw.

Dated: July 16, 2001.
John L. Williams,
Director, Procurement and Grants Office, Centers for Disease Control and Prevention (CDC).

[FR Doc. 01-18158 Filed 7-19-01; 8:45 am]

BILLING CODE 4163-18-P